DEPARTMENT OF THE INTERIOR

Bureau of Reclamation

[RR02050400, 17XR0687NA, RX.18527901.3000000]

Central Valley Project Improvement Act Refuge Water Management Plans

AGENCY: Bureau of Reclamation, Interior.

ACTION: Notice of availability.

SUMMARY: To meet the requirements of the Central Valley Project Improvement Act of 1992 (CVPIA) and subsequent Department of the Interior administrative review process, the Bureau of Reclamation developed and published the Criteria for Developing Refuge Water Management Plans (Refuge Criteria). The 13 entities listed below each developed a Refuge Water Management Plan, which Reclamation evaluated and has preliminarily determined meets the requirements of the Refuge Criteria. Reclamation is publishing this notice to enable the public to review each plan and to comment on the preliminary determination. Public comment is invited at this time.

DATES: Submit written comments on the preliminary determinations on or before September 28, 2017.

ADDRESSES: Send written comments to Ms. Charlene Stemen, Bureau of Reclamation, 2800 Cottage Way, MP-400, Sacramento, CA 95825; or via email at cstemen@usbr.gov.

FOR FURTHER INFORMATION CONTACT: To be placed on a mailing list for any subsequent information, please contact Ms. Charlene Stemen at cstemen@usbr.gov, or at 916-978-5218 (TDD 978-5608).

SUPPLEMENTARY INFORMATION: The following Refuge Water Management Plans are available for review:

• San Luis National Wildlife Refuge

• Kern National Wildlife Refuge

• Merced National Wildlife Refuge

• Pixley National Wildlife Refuge

• Los Banos State Wildlife Area

• Volta State Wildlife Area

• North Grassland State Wildlife Area

• Mendota State Wildlife Area

• Grassland Resource Conservation District (GRCD)

• Delevan National Wildlife Refuge

• Colusa National Wildlife Refuge

• Sacramento National Wildlife Refuge

• Gray Lodge State Wildlife Area

The Refuge Criteria provides a common methodology, or standard, for efficient use of water by Federal Wildlife Refuges, State wildlife management areas, and resource conservation districts that receive water under provisions of the CVPIA. The Bureau of Reclamation, in coordination with the Interagency Refuge Water Management Team, determined that the CVPIA Refuge Water Management Plan Criteria for 2010 shall be used as guidance for the proposed 2015 Refuge Water Management Plans. The press release can be found at the following Web site: www.usbr.gov/newsroom/newsrelease/detail.cfm?RecordID=49568. The 2010/2015 Refuge Criteria can be found at the following Web site: https://www.usbr.gov/mp/watershare/docs/2010-refuge-criteria.pdf. A copy of these Refuge Water Management Plans will be available for review at Reclamation's Mid-Pacific Regional Office, 2800 Cottage Way, MP-400, Sacramento, CA 95825. If you wish to review a copy of these Water Management Plans, please contact Ms. Stemen.

Public Disclosure

Our practice is to make comments, including names and home addresses of respondents, available for public review. Before including your address, phone number, email address, or other personally-identifying information in your comment, please be aware that your entire comment—including such identifying information—may be made publicly available at any time. In your comment you may request us to withhold your personally-identifying information from public review; however, we cannot guarantee we will be able to do so.

Dated: August 21, 2017.
Richard J. Woodley,
Regional Resources Manager, Mid-Pacific Region, Bureau of Reclamation.

[FR Doc. 2017-18269 Filed 8-28-17; 8:45 am]

BILLING CODE 4332-90-P